DEPARTMENT OF HOUSING AND URBAN DEVELOPMENT

[Docket No. FR-5376-N-107]

Notice of Submission of Proposed Information Collection to OMB; Emergency Comment Request; Federal Housing Administration (FHA): Home Energy Retrofit Loan Pilot Program; Notice of Proposed Information Collection for Public Comment

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: November 15, 2010.

ADDRESSES: Interested persons are invited to submit comments regarding this proposal. Comments must be received within zero (0) days from the date of this Notice. Comments should refer to the proposal by name/or OMB approval number) and should be sent to: Ross A. Rutledge, HUD Desk Officer, Office of Management and Budget, New Executive Office Building, Washington, DC 20503; e-mail: Ross.A.Rutledge@omb.eop.gov; fax: 202-395-3086.

FOR FURTHER INFORMATION CONTACT: Colette Pollard, Reports Management Officer, QDAM, Department of Housing and Urban Development, 4517th Street, SW., Washington, DC 20410; e-mail Colette.Pollard@HUD.gov; telephone 202-402-3400. This is not a toll-free number. Copies of available documents submitted to OMB may be obtained from Ms. Pollard.

SUPPLEMENTARY INFORMATION: This Notice informs the public that the U.S. Department of Housing and Urban Development (HUD) has submitted to OMB, for emergency processing, an information collection package with respect to implementing an FHA Energy Efficient Mortgage Innovation pilot program targeted to the single family housing market. The Consolidated Appropriations Act, 2010 (Pub. L. 111-117, approved December 16, 2009, 123 Stat. 3034) (2010 Appropriations Act), which appropriated fiscal year 2010 funds for HUD, among other agencies, appropriated $50 million for an Energy Innovation Fund to enable HUD to catalyze innovations in the residential energy efficiency sector that have the promise of replicability and help create a standardized home energy efficient retrofit market. Of the $50 million appropriated for the Energy Innovation Fund, the 2010 Appropriations Act stated that “$25,000,000 shall be for the Energy Efficient Mortgage Innovation pilot program directed at the single family housing market.” (See Pub. L. 111-117, at 123 Stat. 3089). The FHA Home Energy Retrofit Loan Pilot Program (Retrofit Pilot Program) is designed by HUD to meet this statutory directive and provides funding to support that effort. Under the Retrofit Pilot Program, HUD, through FHA-approved lenders, will insure loans for homeowners who are seeking to make energy improvements to their homes.

Lender participation in the Retrofit Pilot Program is voluntary. To facilitate HUD's evaluation of lender performance and assessment of the success and replicability of the pilot program, HUD will select lenders to participate in the program. To be eligible for participation, lenders must submit an Expression of Interest that demonstrates the eligibility of the lender to participate in the Retrofit Pilot Program.

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Federal Housing Administration (FHA): Home Energy Retrofit Loan Pilot Program.

Description of Information Collection: Lender eligibility to participate in the Retrofit Pilot Program.

OMB Control Number: Pending.

Agency Form Numbers: None.

Members of Affected Public: FHA-approved lenders.

Estimation of the total numbers of hours needed to prepare the information collection including number of respondents, frequency of responses, and hours of response: An estimation of the total number of hours needed to prepare the information collection is 600, the estimated number of respondents is 15, the frequency response is one time, and the estimated number of hours per response is 40.

Authority: The Paperwork Reduction Act of 1995, 44 U.S.C. Chapter 35, as amended.

Dated: November 9, 2010.
Ronald Y. Spraker,
Associate General Deputy Assistant Secretary for Housing.

[FR Doc. 2010-28713 Filed 11-12-10; 8:45 am]

BILLING CODE 4210-67-P